DEPARTMENT OF COMMERCE

Bureau of Industry and Security

15 CFR Part 730

General Information

CFR Correction

In Title 15 of the Code of Federal Regulations, Parts 300 to 799, revised as of January 1, 2015, on page 208, in § 730.8, in paragraph (c), remove the first instance of the phrase: “General information including assistance in understanding the EAR, information on how to obtain forms, electronic services, publications, and information on training programs offered by BIS, is available from the Office of Export Services at the following locations:”

[FR Doc. 2015-28285 Filed 11-9-15; 8:45 am]

BILLING CODE 1505-01-D